FEDERAL COMMUNICATIONS COMMISSION

Public Information Collections Approved by Office of Management and Budget

May 17, 2005.

SUMMARY: The Federal Communications Commission (FCC) has received Office of Management and Budget (OMB) approval for the following public information collections pursuant to the Paperwork Reduction Act of 1995, Pub. L. 104-13. An agency may not conduct or sponsor and a person is not required to respond to a collection of information unless it displays a currently valid control number.

FOR FURTHER INFORMATION CONTACT: Paul J. Laurenzano, Federal Communications Commission, 445 12th Street, SW., Washington, DC 20554, (202) 418-1359 or via the Internet at plaurenz@fcc.gov.

SUPPLEMENTARY INFORMATION: OMB Control No.: 3060-0819.

OMB Approval date: 05/12/2005.

Expiration Date: 05/31/2008.

Title: Lifeline Assistance (Lifeline) Connection Assistance (Link-Up) Reporting Worksheet and Instructions (47 CFR 54.400-54.417).

Form No.: FCC-497.

DATES: Effective 05/12/2005 for sections 54.405(c), 54.405(d), 54.409(d), 54.409(d)(3), 54.410, 54.416, 54.417 which contain information collection requirements that required approval by the Office of Management and Budget. The other rules in section 54.400-54.417 went into effect July 22, 2004 as noted in the Federal Register notice announcing the adoption of the final rule (69 FR 34590).

Estimated Annual Burden: 1,318,055 responses; 101,493 total annual burden hours; approximately 0.08 hours average per respondent.

Needs and Uses: In the Report and Order and Further Notice of Proposed Rulemaking (FCC 04-87), the Commission modified rules to improve the effectiveness of the low-income support mechanism. Among other steps taken, the Order requires collection of certain information to certify and subsequently verify that beneficiaries of low-income support are qualified to receive the support. Specifically, the Commission requires the Eligible Telecommunications Carrier (ETC), in states governed by federal default rules, to retain records of the ETC's self-certification and certifications made by the subscriber, including the subscriber's self-certification that the purported income represents the total household income and the subscriber's self-certification as to the number of persons in the household. Note: Pursuant to OMB guidance, we emphasize that while carriers are allowed to ask for information to verify eligibility, they are not allowed to keep records of the actual information contained in the documents that are presented to them. Rather, carriers may only keep a record that the appropriate documentation was presented and reviewed at the point of eligibility determination. In those states that operate their own Lifeline/Link-Up program, states must devise a procedure to ensure eligibility criteria are met and those ETCs must be able to document that they are complying with state regulations and recordkeeping requirements. This information collection is necessary to protect against fraud and abuse in the provision of services supported by the universal service mechanism.

In addition, the Commission plans to issue a voluntary survey to gather data and information from states regarding the administration of Lifeline/Link-Up programs upon OMB approval. This information collection is necessary to enable the Commission to make more informed decisions in any future Lifeline/Link-Up orders.

Federal Communications Commission.
Marlene H. Dortch,
Secretary.

[FR Doc. 05-10232 Filed 5-24-05; 8:45 am]

BILLING CODE 6712-01-P